DEPARTMENT OF TRANSPORTATION

Federal Aviation Administration

14 CFR Parts 21, 25, and 29

[Docket No. FAA-2023-0515]

Draft Policy Statement Regarding Submission of Outline of New and Changed Systems at the Beginning of the Type Certificate Amendment Process for Transport Category Aircraft; Correction

AGENCY: Federal Aviation Administration (FAA), DOT.

ACTION: Notification of availability, request for comments; correction.

SUMMARY: The FAA published a document in the Federal Register on March 2, 2023, inviting the public to submit comments on the draft policy statement regarding Submission of Outline of New and Changed Systems at the Beginning of the Type Certificate Amendment Process for Transport Category Aircraft. The document contained an incorrect uniform resource locator (URL).

DATES: This correction is effective on March 7, 2023.

FOR FURTHER INFORMATION CONTACT: Sue McCormick, Strategic Policy Systems Standards Section, AIR-619, Strategic Policy Management Branch, Policy and Innovation Division, Aircraft Certification Service, by email at susan.mccormick@faa.gov, or by phone at (206) 231-3242.

SUPPLEMENTARY INFORMATION:

Background

Draft Policy Statement Regarding Submission of Outline of New and Changed Systems at the Beginning of the Type Certificate Amendment Process for Transport Category Aircraft, was published in the Federal Register on March 2, 2023 (88 FR 13071). The original document contained an incorrect URL for Aviation Safety Draft Documents Open for Comment.

Correction

In the Federal Register of March 2, 2023 (88 FR 13071), make the following correction:

1. On page 13071, in the SUPPLEMENTARY INFORMATION, Discussion section, third sentence, correct the URL to read “https://www.faa.gov/aircraft/draft_docs”.

Issued in Washington, DC, on March 2, 2023.
James D. Foltz,
Acting Manager, Strategic Policy Management Branch, Policy and Innovation Division, Aircraft Certification Service.

[FR Doc. 2023-04658 Filed 3-6-23; 8:45 am]

BILLING CODE 4910-13-P